DEPARTMENT OF THE INTERIOR

Bureau of Indian Affairs

[201A2100DD/AAKC001030/A0A501010.999900 253G; OMB Control Number 1076-0157]

Agency Information Collection Activities; Grazing Permits

AGENCY: Bureau of Indian Affairs, Interior.

ACTION: Notice of information collection; request for comment.

SUMMARY: In accordance with the Paperwork Reduction Act of 1995, we, the Bureau of Indian Affairs (BIA) are proposing to renew an information collection.

DATES: Interested persons are invited to submit comments on or before December 23, 2019.

ADDRESSES: Send your comments on this information collection request (ICR) by mail to Mr. Jarvis Gust, Bureau of Indian Affairs, Rocky Mountain Region, 2021 4th Avenue North, Billings, Montana 59101; or by email jarvis.gust@bia.gov. Please reference OMB Control Number 1076-0157 in the subject line of your comments.

FOR FURTHER INFORMATION CONTACT: To request additional information about this ICR, contact Mr. Jarvis Gust by email at jarvis.gust@bia.gov, or by telephone at 406-247-7946.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The “American Indian Agricultural Resource Management Act,” (AIARMA), 25 U.S.C. 3701 et seq., authorizes the Secretary of the Interior, in participation with the beneficial owner of the land, to manage Indian agricultural lands in a manner consistent with identified Tribal goals and priorities for conservation, multiple use, sustained yield, and consistent with trust responsibilities. The regulations at 25 CFR 166, Grazing Permits; implement the AIARMA and include the specific information collection requirements. Submission of this information allows individuals or organizations to acquire or modify a grazing permit on Tribal land, individually-owned Indian land, or government land and to meet bonding requirements.

Title of Collection: Grazing Permits.

OMB Control Number: 1076-0157.

Form Number: Form 5-5423— Performance Bond, Form 5-5514—Bid for Grazing Privileges, 5-5515 Grazing Permit, Form 5-5516— Grazing Permit for Organized Tribes, Form 5-5517—Free Grazing Permit, Form 5-5519—Cash Penal Bond, Form 5-5520—Power of Attorney, Form 5-5521—Certificate and Application for On-and-Off Grazing Permit, Form 5522—Modification of Grazing Permit, Form 5-5523—Assignment of Grazing Permit, Form 5-5524—Application for Allocation of Grazing Privileges, 5-5525 Authority to Grant Grazing Privileges on Allotted Lands, Form 5-5528—Livestock Crossing Permit, and Form 5-5529—Removable Range Improvement Records.

Type of Review: Extension of a currently approved collection.

Respondents/Affected Public: Tribes, Tribal organizations, individual Indians, and non-Indian individuals and associations.

Total Estimated Number of Annual Respondents: 800.

Total Estimated Number of Annual Responses: 7,810.

Estimated Completion Time per Response: Varies from 20 minutes to one hour, with an average of less than one hour per response.

Total Estimated Number of Annual Burden Hours: 2,701.

Respondent's Obligation: Required to Obtain a Benefit.

Frequency of Collection: Annually.

Total Estimated Annual Nonhour Burden Cost: $0.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2019-22981 Filed 10-21-19; 8:45 am]

BILLING CODE 4337-15-P